INTERNATIONAL TRADE COMMISSION

[USITC SE-06-014]

Sunshine Act Meeting

Agency Holding the Meeting: United States International Trade Commission.

Time and Date: March 7, 2006 at 2 p.m.

Place: Room 101, 500 E Street SW., Washington, DC 20436.

Telephone: (202) 205-2000.

Status: Open to the public.

Matters to be Considered: 1. Agenda for future meetings: none.

2. Minutes.

3. Ratification List.

4. Inv. Nos. 731-TA-825 and 826 (Second Review) (Certain Polyester Staple Fiber from Korea and Taiwan)—briefing and vote. (The Commission is currently scheduled to transmit its determination and Commissioners' opinions to the Secretary of Commerce on or before March 20, 2006.)

5. Outstanding action jackets: none.

In accordance with Commission policy, subject matter listed above, not disposed of at the scheduled meeting, may be carried over to the agenda of the following meeting.

By order of the Commission:
Issued: February 22, 2006.
Marilyn R. Abbott,
Secretary to the Commission.

[FR Doc. 06-1814 Filed 2-22-06; 3:47 pm]

BILLING CODE 7020-02-P